DEPARTMENT OF THE INTERIOR

Bureau of Land Management

[CA-930-5410-FR-B329; CACA 49299-01]

Conveyance of Federally-Owned Mineral Interests—California

AGENCY: Bureau of Land Management, Interior.

ACTION: Notice of filing of amended application and segregation of mineral interests.

SUMMARY: An amendment to a previously filed application for conveyance of the Federally-owned mineral interests in the tract of land described in this notice has been received. The amendment is dated September 2, 2008. The previous application, filed on August 31, 2007, was published in the Federal Register on Monday, December 17, 2007, at page 71430, in Volume 72, No. 241. The amendment describes Federally-owned mineral interests in the tracts of land described in this notice. Publication of this notice temporarily segregates the mineral interests in the land covered by the amendment from appropriation under the mining and mineral leasing laws while the application is being processed. This notice also will correct the name of the county in the previously issued notice.

FOR FURTHER INFORMATION CONTACT: Liz Easley, Bureau of Land Management, California State Office, 2800 Cottage Way, Sacramento, California 95825, (916) 978-4673.

Your comments are invited. Submit all comments in writing to Liz Easley at the address listed above. Comments, including names, street addresses, and other contact information of respondents, will be available for public review. Individual respondents may request confidentiality. If you wish to request that the BLM consider withholding your name, street address, and other contact information, e.g. Internet address, FAX or phone number, from public review of disclosure under the Freedom of Information Act, you must state this prominently at the beginning of your written comment. The BLM will honor requests for confidentiality on a case-by-case basis to the extent allowed by law. The BLM will make available for public inspection, in their entirety, all submissions from organizations and businesses, and from individuals identifying themselves as representatives or officials of organizations or businesses.

SUPPLEMENTARY INFORMATION: The tract of land referred to in this notice consists of approximately 188.50 acres situated in Humboldt County, described as follows:

Humboldt Meridian, California

T. 1 S., R. 3 E.,

Sec. 1, SW¼SW¼, excepting therefrom that portion thereof lying southerly of the center of Larabee Creek;

Sec. 3, W½SE¼ and SE¼SE¼;

Sec. 11, NW¼NW¼.

Under certain conditions, section 209(b) of the Federal Land Policy and Management Act of October 21, 1976, 43 U.S.C. 1719 (FLPMA) authorizes the sale and conveyance of the Federally-owned mineral interests in land when the non-mineral (or so called surface interest in land) is not Federally-owned. The objective is to allow consolidation of the surface and mineral interests when either one of the following conditions exist: (1) There are no known mineral values in the land; or (2) where continued Federal ownership of the mineral interests interferes with or precludes appropriate non-mineral development and such development is a more beneficial use of the land than mineral development.

In accordance with section 209(b) of FLPMA, on September 15, 2008, the amended application was filed for the sale and conveyance of the Federally-owned mineral interests in the above-described tracts of land. Publication of this notice segregates, subject to valid existing rights, the Federally-owned mineral interests in the land referenced above in this notice from appropriation under the general mining and mineral leasing laws, while the application is being processed to determine if either one of the two specified conditions exists and, if so, to otherwise comply with the procedural requirements of 43 CFR Part 2720. The segregative effect shall terminate: (i) Upon issuance of a patent or other document of conveyance as to such mineral interests; (ii) upon final rejection of the application; or (iii) two years from the date of filing the application, whichever occurs first.

The previously published Federal Register notice of Monday, December 17, 2007, at page 71430, in Volume 72, No. 241, states that the tracts of land described therein are situated in Nevada County. Nevada County is not correct. Humboldt County is the correct name of the county.

(Authority: 43 CFR 2720.1-1(b)).

Dated: December 5, 2008.
Robert Doyel,
Chief, Lands Management.

[FR Doc. E8-29323 Filed 12-10-08; 8:45 am]

BILLING CODE 4310-40-P